DEPARTMENT OF JUSTICE

Notice of Lodging of Proposed Consent Decree Under the Clean Air Act

On March 19, 2018, the Department of Justice lodged a proposed Consent Decree with the United States District Court for the Northern District of Ohio in the lawsuit entitled United States v. Martin Marietta Magnesia Specialties LLC, Civil Action No. 3:18-cv-00633.

The proposed Consent Decree resolves claims under Clean Air Act (“CAA”) Sections 113(b) and 167, 42 U.S.C. 7413(b) and 7477, against Martin Marietta Magnesia Specialties LLC (“MMMS”), the owner and operator of a lime manufacturing plant located in Woodville, Sandusky County, Ohio. The Complaint asserts claims pursuant to the CAA for violations of the Prevention of Significant Deterioration (“PSD”) provisions of the CAA, 42 U.S.C. 7470-92, Title V of the Act, 42 U.S.C. 7661 et seq., and the National Emission Standards for Hazardous Air Pollutants (“NESHAP”) provisions of the CAA, 42 U.S.C. 7412, and the NESHAP regulations governing lime manufacturing plants, 40 CFR part 63, subparts A and AAAAA (“Lime MACT”).

Under the proposed Consent Decree, and at an estimated cost of approximately $20 million, MMMS will address sulfur dioxide (“SO2”) and nitrogen oxide (“NOX”) emissions from the Woodville Facility through the addition of preheaters to Lime Kilns #1 and #2 and address particulate matter (“PM”) emissions by routing emissions from Kiln #1 through a baghouse. Kilns #1 and #2 will also be required to meet specified SO2 and NOX emissions limits. Additionally, under the proposed Consent Decree, MMMS will pay an $800,000 civil penalty and perform a vehicle replacement supplemental environmental project valued at $375,000.

The publication of this notice opens a period for public comment on the Consent Decree. Comments should be addressed to the Assistant Attorney General, Environment and Natural Resources Division, and should refer to United States v. Martin Marietta Magnesia Specialties, LLC, D.J. Ref. No. 90-5-2-1-10203. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.50 (25 cents per page reproduction cost) payable to the United States Treasury.

Randall M. Stone,
Acting Assistant Section Chief, Environmental Enforcement Section, Environment and Natural Resources Division.

[FR Doc. 2018-06291 Filed 3-28-18; 8:45 am]

BILLING CODE 4410-15-P